DEPARTMENT OF COMMERCE

National Oceanic and Atmospheric Administration

RIN 0648-XC230

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, October 1-9, 2012, in Anchorage, AK.

DATES: The meetings will be held Monday, October 1, 2012 through Tuesday, October 9, 2012. See SUPPLEMENTARY INFORMATION for specific dates and times of the meetings.

ADDRESSES: The meetings will be held at the Anchorage Hilton Hotel, 500 W. 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, October 3 continuing through Tuesday October 9. Council's Advisory Panel (AP) will begin at 8 a.m., Tuesday, October 2 and continue through Saturday, October 6, the Scientific Statistical Committee (SSC) will begin at 8 a.m. on Monday, October 1 and continue through Wednesday, October 3. The Enforcement Committee will meet October 2, 1 p.m.-4 p.m., Birch Room. All meetings are open to the public, except executive sessions.

Council Plenary Session

The agenda for the Council's plenary session will include the following issues. The Council may take appropriate action on any of the issues identified.

Reports

1. Executive Director's Report (including report on spatial tools for arctic mapping and planning (STAMP), update on staff meetings); NMFS Management Report (Including report on status of petition to list corals under Endangered Species Act (ESA), update on the Habitat Blueprint); Alaska Department of Fish & Game (ADF&G) Report; NOAA Enforcement Report; United States Coast Guard (USCG) Report; United States Fish & Wildlife Service (USFWS) Report; Protected Species Report (PSR).

2. Halibut Fisheries Issues: ADF&G report on final 2011 sport halibut removals; Final action on Halibut Catch Share Plan; Charter Halibut: Review Methodology for 2013 limits (SSC only).

3. Groundfish Specifications; Receive Groundfish Plan Team reports; Aleutian Island Pacific cod model review (SSC only); Adopt proposed groundfish catch specifications.

4. Observer Program: Receive NMFS report on Observer Deployment Plan; Receive Observer Advisory Committee (OAC) Report.

5. Steller Sea Lion (SSL) Issues: SSL Environmental Impact Statement (EIS) scoping (October 2); report from SSL Mitigation Committee; SSC review of SSL EIS analytical approach.

6. Vessel Replacement Issues: Discussion paper on Amendment 80 vessel replacement with American Fisheries Act (AFA) vessels; Initial review of AFA Vessel Replacement Gulf of Alaska (GOA) Sideboards; Final Action on Freezer Long Line (FFL) Vessel Replacement (Maximum Length Overall (MLOA) adjustment).

7. Bering Sea Aleutian Island (BSAI) Crab Management: Initial Review of BSAI Crab Right of First Refusal (ROFR); Initial Review of BSAI Crab active participation requirements; Discussion paper on BSAI Crab Cooperative Provisions for Crew; Workgroup report on BSAI Crab Binding Arbitration—Golden King Crab; Discussion paper on Binding Arbitration Issues (lengthy season, publishing decisions, Individual Processoring Quota (IPQ) Initiation); Crab Economic Data Reporting (EDR)—Review forms and draft regulations; Final Over Fishing Level (OFL)/Allowable Biological Catch (ABC) specifications for 6 stocks in the BSAI Crab Stock Assessment Fishery Evaluation (SAFE); Revise alternatives for BSAI Tanner crab rebuilding plan.

8. Groundfish Issues: Feedback on goals and objectives on Central Gulf of Alaska (CGOA) trawl Prohibited Species Catch (PSC) tools; Expanded discussion paper on Vessel Monitoring System (VMS) Use and Requirements; Review the Bering Sea Habitat Conservation Area Boundary; Discussion paper on Northern Bering Sea Research.

9. Staff Tasking: Review Committees and tasking.

10. Other Business.

The SSC agenda will include the following issues:

1. Halibut Fisheries Issues.

2. Groundfish Specifications.

3. Observer Program.

4. SSL EIS.

5. AFA Vessel replacement GOA Sideboards.

6. Review of BSAI Crab ROFR.

7. Review of BSAI Crab active participation requirements.

8. OFL/ABC specifications for 6 stocks in the BSAI Crab SAFE.

9. Revise alternatives for BSAI Tanner Crab Rebuilding plan.

10. Northern Bering Sea Research.

The Advisory Panel will address most of the same agenda issues as the Council except B reports. The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 7, 2012.
Tracey L. Thompson,
Acting Deputy Director, Office of Sustainable Fisheries, National Marine Fisheries Service.

[FR Doc. 2012-22502 Filed 9-12-12; 8:45 am]

BILLING CODE 3510-22-P